DEPARTMENT OF COMMERCE

National Oceanic and Atmospheric Administration

[RTID 0648-XA426]

Caribbean Fishery Management Council; Public Meeting

AGENCY: National Marine Fisheries Service (NMFS), National Oceanic and Atmospheric Administration (NOAA), Commerce.

ACTION: Notice of public meeting.

SUMMARY: The Caribbean Fishery Management Council (CFMC) will hold its 171st public meeting (virtual) to address the items contained in the tentative agenda included in the SUPPLEMENTARY INFORMATION.

DATES: The CFMC 171st public meeting (virtual) will be held on September 25, 2020, from 9 a.m. to 3 p.m. The meeting will be at Eastern Day Time.

ADDRESSES: You may join the CFMC 171st public meeting (virtual) via GoToMeeting from a computer, tablet or smartphone by entering the following address:

CFMC September 25, 2020, 9 a.m. to 3 p.m.

Please join the meeting from your computer, tablet or smartphone. https://global.gotomeeting.com/join/971749317

You can also dial in using your phone.

United States: +1 (408) 650-3123.

Access Code: 971-749-317.

New to GoToMeeting? Get the app now and be ready when the first meeting starts:

https://global.gotomeeting.com/install/971749317

In case there are problems with GoToMeeting, and we cannot reconnect via GoToMeeting, the meeting will continue via Google Meet.

By Google Meet on Sept. 25, 2020, 9 a.m., follow this link:

https://calendar.google.com/calendar/r/eventedit/copy/NDdzYXU5OWdrMDZsZzJnNmJlMW1pczVlbzQgbWlndWVsYXIyOUBt/bWlndWVsYXIyOUBnbWFpbC5jb20?pli=1&sf=true

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

Tentative Agenda

9 a.m.-12 p.m.—Five-Year Strategic Plan—Dr. Michelle Duval

12 p.m.-1 p.m.—Lunch Break

1 p.m.-2:30 p.m.—Executive Order on Promoting American Seafood Competitiveness and Economic Growth (May 7, 2020)

2:30 p.m.-2:45 p.m.—Other Business

2:45 p.m.-3 p.m.—5-minutes Public Comments/Presentations

The CFMC is interested in hearing feedback on priorities for its Five-Year Strategic Plan (Sept. 25, 2020, 9 a.m.). The list of topics the Council is considering in developing the Strategic Plan, and on which the Council would like feedback include: (1) Resource Health: Invasive species, climate change, erosion & sedimentation, coastal development, natural disasters, habitat loss & destruction, enforcement, pollution, bycatch & discard mortality, abundance of baitfish and forage species, lack of biological or ecosystem information, overfishing, and illegal fishing; (2) Social, Cultural, Economic Concerns: closed seasons and stock assessment, valuation and assessment of area closures, increasing costs, competition with foreign fishermen, recreational & commercial user conflicts, displacement of fishing communities, and ability to support a family, illegal/unlicensed commercial fishers, lack of new entrants into fishery, lack of social & economic data, excess gear, market instability, infrastructure needs (landing sites), inadequate enforcement, excess fishing capacity; (3) Management & Operational Issues: accurate/timely commercial and recreational catch data, enforcement of existing regulations, fisher involvement in data collection, regulatory consistency (federal & territorial), clear management objectives, bycatch/regulatory discards, gear limits, cost-effective data collection technology, balancing commercial & recreational concerns, incorporation of climate change into management, Federal permit program, and territorial licensing requirements; and (4) Communication and Outreach: frequency of communication (alerts/reminders of scoping meetings and council meetings), variety of tools used in communication (e.g. email, website, social media, paper, text message alerts), educational resources (e.g. science & stock assessment, business planning, restaurant choices, etc.), improving general public awareness of fisheries issues, regular in-person outreach workshops on important topics, and clarity and simplicity of presentations.

The order of business may be adjusted as necessary to accommodate the completion of agenda items. Other than the start time, interested parties should be aware that discussions may start earlier or later than indicated, at the discretion of the Chair.

Special Accommodations

Simultaneous interpretation will be provided. To receive interpretation in Spanish you can dial into the meeting as follows:

US/Canada: call +1-888-947-3988, when system answers, enter 1*999996#. Para interpretación en inglés marcar: US/Canada: call +1-888-947-3988, cuando el sistema conteste, entrar el siguiente número 2*999996#.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: September 3, 2020.
Tracey L. Thompson,
Acting Deputy Director, Office of Sustainable Fisheries, National Marine Fisheries Service.

[FR Doc. 2020-19909 Filed 9-8-20; 8:45 am]

BILLING CODE 3510-22-P